DEPARTMENT OF THE INTERIOR

Bureau of Land Management

[LLWYD01000-2009-LL13100000-NB0000-LXSI016K0000]

Notice of the Meeting Schedule for the Pinedale Anticline Working Group

AGENCY: Bureau of Land Management, Department of the Interior.

ACTION: Notice of public meetings.

SUMMARY: In accordance with the Federal Land Policy and Management Act (1976), the Federal Advisory Committee Act (1972), and the Record of Decision (ROD) for the Pinedale Anticline Final Supplemental Environmental Impact Statement (2008), the U.S. Department of the Interior, Bureau of Land Management (BLM) Pinedale Anticline Working Group (PAWG) will meet in Pinedale, Wyoming. Meetings are open to the public and public comment will be taken.

DATES: Beginning at 1 p.m. MST: November 5, 2009; January 28, 2010; February 25, 2010; March 25, 2010; April 22, 2010; May 27, 2010; June 24, 2010; July 22, 2010; August 26, 2010; September 23, 2010; and October 28, 2010.

ADDRESSES: The PAWG meetings will be held at the BLM Pinedale Field Office, 1625 West Pine Street in Pinedale, Wyoming.

FOR FURTHER INFORMATION CONTACT: Ms. Shelley Gregory, PAWG Designated Federal Officer, Bureau of Land Management, Pinedale Field Office, 1625 West Pine Street, P.O. Box 768, Pinedale, WY 82941; 307-367-5328; shelley_gregory@blm.gov.

SUPPLEMENTARY INFORMATION: The Pinedale Anticline Working Group (PAWG) was authorized and established with release of the Record of Decision (ROD) for the Final Environmental Impact Statement of the Pinedale Anticline Oil and Gas Exploration and Development Project Area (PAPA) on July 27, 2000 and carried forward with the release of the ROD for the Final Supplemental Environmental Impact Statement (FSEIS) of the PAPA on September 12, 2008. The PAWG advises the BLM on the development and implementation of monitoring plans and adaptive management decisions as PAPA development proceeds. Meeting agendas will include discussions concerning the implementation of the PAPA FSEIS ROD, the development of the Pinedale Anticline Project Office (PAPO), any modifications the PAWG or task groups wish to make to their recommendations, and overall adaptive management implementation as it applies to the PAWG. Additional information about the PAWG can be found at: http://www.blm.gov/wy/st/en/field_offices/Pinedale/pawg.html.

Dated: September 28, 2009.
Chuck Otto,
Field Office Manager.

[FR Doc. E9-24216 Filed 10-6-09; 8:45 am]

BILLING CODE 4310-22-P